DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before June 7, 2019.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with part 107 of the Federal hazardous materials transportation law (49 U.S.C. 5117(b); 49 CFR 1.53(b)).

Issued in Washington, DC, on May 2, 2019.
Donald P. Burger,
Chief, General Approvals and Permits Branch.

Application No. | Applicant | Regulation(s) affected | Nature of the special permits thereof
Special Permits Data—Granted
10922-M | FIBA TECHNOLOGIES, INC | 173.302(a), 180.205, 180.207(d)(1), 172.302(c) | To modify the special permit to authorize non-DOT cylinders to be requalified using ultrasonic examination.
12116-M | PROSERV UK LTD | 173.201, 173.301(f), 173.302a, 173.304a | To authorize the addition of new Type 5 Severs Service Cylinders.
13250-M | PACIFIC CONSOLIDATED INDUSTRIES LLC | 173.302a(a)(1), 173.304a(a)(1) | To modify the special permit to authorize an extension of cylinder life utilizing the Modal Acoustic Emission (MAE) test method.
14453-M | FIBA TECHNOLOGIES, INC | 180.209(a), 180.209(b), 180.209(b)(1)(iv) | To modify the special permit to authorize non-DOT cylinders manufactured under special permit to be requalified every ten years using 100% ultrasonic examination.
14509-M | PACIFIC CONSOLIDATED INDUSTRIES LLC | 173.302(a), 173.302(f)(3), 173.302(f)(4), 173.302(f)(5), 173.304(a), 175.501(e)(3) | To modify the special permit to authorize an extension of cylinder life utilizing the Modal Acoustic Emission (MAE) test method.
20799-N | MULTI-CHEM, INC | 173.40(d)(2), 173.226(a) | To authorize the transportation in commerce of Acrolein, stabilized in DOT 4BW240 cylinders.
20814-N | SAFT AMERICA INC | 172.101(j) | To authorize the transportation in commerce of certain lithium batteries with a net mass greater than 35 kg aboard cargo-only aircraft.
20821-N | SPACEFLIGHT, INC | 173.185(a) | To authorize the transportation in commerce of low production lithium ion batteries contained in equipment via air transportation.
20824-N | WORTHINGTON CYLINDER CORPORATION | 178.65(f)(2)(iii) | To authorize the manufacture, mark, sale, and use of non-DOT specification cylinders conforming to the DOT 39 specification, except as provided herein.
20842-N | STERILMED, INC | 172.203(a), 172.301(c), 173.134 | To authorize the transportation in commerce of packages of medical equipment as excepted from the requirements of the Hazardous Materials Regulations without including an itemized count of equipment contained within the package.
20847-N | CHART INC | 173.315(a)(2) | To authorize the manufacture, marking, sale and use of DOT MC 338 cargo tanks for use in the transportation of carbon dioxide, refrigerated liquid.
20849-N | Collins Aerospace | 172.203(a), 173.301(g) | To authorize the transportation in commerce of manifolded cylinders that do not meet the requirements of 49 CFR 173.301(g).
20859-N | TOYOTA MOTOR SALES USA INC | 172.301(d) | To authorize the transportation in commerce of airbag inflators in overpack enclosures without marking each package with the name and address of the consignor or consignee when transported domestically on aircraft.
Special Permits Data—Denied
20844-N | PAVE NORTHWEST, INC | 173.203 | To authorize the transportation in commerce of non-DOT specification non-bulk packagings containing UN3264, corrosive liquid, acidic, inorganic, n.o.s. (contains aluminum sulfate).
20863-N | Vwk9, LLC | 173.62, 173.22 | To authorize the transportation of explosives in non-specification packaging.
Special Permits Data—Withdrawn
20846-N | CAPELLA SPACE CORP | 173.185(a) | To authorize the transportation in commerce of low production lithium ion batteries contained in equipment via motor vehicle and cargo-only aircraft.
20848-N | Cummins Inc | 172.101(j), 173.185(a) | To authorize the transportation in commerce of prototype and low productions lithium batteries in excess of 35 kg by cargo-only aircraft.

[FR Doc. 2019-09385 Filed 5-7-19; 8:45 am]

BILLING CODE 4909-60-P